FARM CREDIT ADMINISTRATION

Sunshine Act Meeting

AGENCY: Farm Credit Administration.

ACTION:

SUMMARY: Notice is hereby given, pursuant to the Government in the Sunshine Act (5 U.S.C. 552b(e)(3)), of the special meeting of the Farm Credit Administration Board (Board).

DATE AND TIME: The special meeting of the Board will be held at the offices of the Farm Credit Administration in McLean, Virginia, on May 3, 2000, from 9:00 a.m. until such time as the Board concludes its business.

ADDRESSES: Farm Credit Administration, 1501 Farm Credit Drive, McLean, Virginia 22102-5090.

FOR FURTHER INFORMATION CONTACT: Vivian L. Portis, Secretary to the Farm Credit Administration Board, (703) 883-4025, TDD (703) 883-4444.

SUPPLEMENTARY INFORMATION: Parts of this meeting of the Board will be open to the public (limited space available), and parts will be closed to the public. In order to increase the accessibility to Board meetings, persons requiring assistance should make arrangements in advance.

The matters to be considered at the meeting are:

Open Session

A. Approval of Minutes

—April 13, 2000 (Open).

B. Report

—National Charter Application Process.

C. New Business

1. Regulations

a. Review of Significant Regulatory Actions Pursuant to E.O. 12866; and

b. Stockholder Vote on Like Lending Authority-Draft Proposed Regulation.

2. Other—Corporate Approvals

a. Revision of PS-63, “Policy Statement on Farm Credit Institution Names” (NV 96-22); and

b. Consolidation/Subsidiary Structure Proposal from Farm Credit of Colorado Springs, PCA/FLCA, Farm Credit Services of Southeast Colorado, PCA/FLCA; Farm Credit of Lamar FLCA; and Monte Vista PCA.

Closed Session*

* Session closed-exempt pursuant to 5 U.S.C. 552b(c) (8) and (9).

D. Report

1. OSMO Report.

Dated: April 27, 2000.
Nan P. Mitchem,
Acting Secretary, Farm Credit Administration Board.

[FR Doc. 00-11011 Filed 4-28-00; 2:17 pm]

BILLING CODE 6705-01-P